DEPARTMENT OF HEALTH AND HUMAN SERVICES

Food and Drug Administration

[Docket No. FDA-2011-N-0033]

Withdrawal of Approval of New Animal Drug Applications; Phenylbutazone; Pyrantel; Tylosin; Sulfamethazine; Correction

AGENCY: Food and Drug Administration, HHS.

ACTION: Notice; correction.

SUMMARY: The Food and Drug Administration (FDA) published a document in the Federal Register of March 2, 2011 (76 FR 11490), providing notice of the voluntary withdrawal of approval of eight new animal drug applications (NADAs). That document contained an error in the preamble. FDA is correcting the name and address for the sponsor of five of the NADAs. This correction is being made to improve the accuracy of the Federal Register.

FOR FURTHER INFORMATION CONTACT: George K. Haibel, Center for Veterinary Medicine (HFV-6), Food and Drug Administration, 7519 Standish Pl., Rockville, MD 20855, 240-276-9019, e-mail: george.haibel@fda.hhs.gov.

SUPPLEMENTARY INFORMATION: In the Federal Register of March 2, 2011, in FR Doc. 2011-4545, on page 11490, in the first column, correct the Truow Nutrition, Inc., name and address to read: Trouw Nutrition USA LLC, P.O. Box 219, 115 Executive Dr., Highland, IL 62249.

Dated: April 15, 2011.
Bernadette Dunham,
Director, Center for Veterinary Medicine.

[FR Doc. 2011-9778 Filed 4-21-11; 8:45 am]

BILLING CODE 4160-01-P